FEDERAL COMMUNICATIONS COMMISSION

[OMB 3060-1022]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

The Commission may not conduct or sponsor a collection of information unless it displays a currently valid Office of Management and Budget (OMB) control number. No person shall be subject to any penalty for failing to comply with a collection of information subject to the PRA that does not display a valid OMB control number.

DATES: Written comments should be submitted on or before November 7, 2019. If you anticipate that you will be submitting comments but find it difficult to do so with the period of time allowed by this notice, you should advise the contacts listed below as soon as possible.

ADDRESSES: Direct all PRA comments to Nicholas A. Fraser, OMB, via email Nicholas_A._Fraser@OMB.eop.gov; and to Cathy Williams, FCC, via email PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) Go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1022.

Title: Sections 101.1403, 101.103(f), 101.1413, 101.1440, 101.1417 and 25.139 (MVDDS reporting, recordkeeping and third-party disclosures; NGSO FSS and DBS recordkeeping and third-party disclosures)

Form Number: N/A.

Type of Review: Revision of a currently approved collection.

Respondents: Business or other for-profit entities.

Number of Respondents: 18 respondents; 2,238 responses.

Estimated Time per Response: 0.25 hour-40 hours.

Frequency of Response: Annual and on occasion reporting requirements; 5- and 10-years reporting requirements; third party disclosure requirement; recordkeeping requirement.

Obligation to Respond: Required to obtain or retain benefits. 47 U.S.C. 154(i), 157(a), 301, 303(c), 303(f), 303(g), 303(r), 308, and 309(j).

Total Annual Burden: 5,316 hours.

Total Annual Cost: No cost.

Privacy Impact Assessment: No impact(s).

Nature and Extent of Confidentiality: There is no need for confidentiality with this collection of information.

Needs and Uses: The collection is being revised because, the Commission consolidated the information collection requirements currently contained in collection 3060-1021 (§ 25.139) into 3060-1022; therefore, OMB Control Number 3060-1021 will be discontinued once the consolidation is approved by OMB. The Commission is also revising estimates based on updated licensing activity with no programmatic changes. This collection includes a Part 25 rule and various rules in Part 101 that govern record retention, reporting, and third-party disclosure requirements related to satellite and terrestrial sharing of the 12.2-12.7 GHz band. The satellite operators are Non-Geostationary Orbit Fixed Satellite Service (NGSO FSS) and Direct Broadcast Satellite (DBS) Service. The terrestrial operators are Multichannel Video Distribution and Data Service (MVDDS). The following information collected will assist the Commission in analyzing trends and competition in the marketplace. Section 25.139 requires NGSO FSS licensees to maintain a subscriber database in a format that can be readily shared to enable MVDDS licensees to determine whether a proposed MVDDS transmitting antenna meets the minimum spacing requirement relative to qualifying, existing NGSO FSS subscriber receivers (set forth in § 101.129, FCC Rules). Section 101.1403 requires certain MVDDS licensees that meet the statutory definition of Multichannel Video Programming Distributor (MVPD) to comply with the broadcast carriage requirements located 47 U.S.C. 325(b)(1). Any MVDDS licensee that is an MVPD must obtain the prior express authority of a broadcast station before retransmitting that station's signal, subject to the exceptions contained in § 325(b)(2) of the Communications Act of 1934. Section 101.103(f) requires MVDDS licensees to provide notice of intent to construct a proposed antenna to NGSO FSS licensees operating in the 12.2-12.7 GHz frequency band and to establish and maintain an internet website of all existing transmitting sites and transmitting antenna that are scheduled for operation within one year including the “in service” dates. Section 101.1413, as a construction requirement, requires MVDDS licensees to file a showing of substantial service at five and ten years into the initial license term. Substantial service is defined as a “service that is sound, favorable, and substantially above a level of mediocre service which might minimally warrant renewal.” The Commission set forth a safe harbor to serve as a guide to licensees in satisfying the substantial service requirement, as well as additional factors that it would take into consideration in determining whether a licensee satisfies the substantial service standard. Section 101.1440 requires MVDDS licensees to collect information and disclose information to third parties. Therefore, the reporting and disclosure requirements are as follows: Section 101.1440 requires MVDDS licensees to conduct a survey of the area around its proposed transmitting antenna site to determine the location of all DBS customers of record that may potentially be affected by the introduction of its MVDDS service. At least 90 days prior to the planned date of MVDDS commencement of operations, the MVDDS licensee must then provide specific information to the DBS licensee(s). Alternatively, MVDDS licensees may obtain a signed, written agreement from DBS customers of record stating that they are aware of and agree to their DBS system receiving MVDDS signal levels in excess of the appropriate Equivalent Power Flux Density (EPFD) limits. The DBS licensee must thereafter provide the MVDDS licensee with a list of only those new DBS customer locations that have been *37284 installed in the 30-day period following the MVDDS notification that the DBS licensee believes may receive harmful interference or where the prescribed EPFD limits may be exceeded. If the MVDDS licensee determines that its signal level will exceed the EPFD limit at any DBS customer site, it shall take whatever steps are necessary, up to and including finding a new transmitter site. Section 101.1417 requires MVDDS licensees to file an annual report. The MVDDS licensees must file with the Commission two copies of a “licensee information report” by March 1st of each year for the preceding calendar year. This “licensee information report” must include name and address of licensee; station(s) call letters and primary geographic service area(s); and statistical data for the licensee's station.

Federal Communications Commission.
Marlene Dortch,
Secretary, Office of the Secretary.

[FR Doc. 2019-21941 Filed 10-7-19; 8:45 am]

BILLING CODE 6712-01-P